DEPARTMENT OF TRANSPORTATION

Federal Aviation Administration

14 CFR Part 71

[Docket No. FAA-2011-0117; Airspace Docket No. 09-AGL-31]

RIN 2120-AI92

Proposed Establishment of Restricted Areas R-5402, R-5403A, R-5403B, R-5403C, R-5403D, R-5403E, R-5403F; Devils Lake, ND

AGENCY: Federal Aviation Administration (FAA), DOT.

ACTION: Notice of proposed rulemaking (NPRM); extension of comment period.

SUMMARY: This action extends the comment period for an NPRM that was published on November 28, 2011. In that document, the FAA proposed to establish restricted area airspace within the Devils Lake East Military Operations Area (MOA), overlying Camp Grafton Range, in the vicinity of Devils Lake, ND. This extension is a result of a request from the North Dakota Aviation Council (NDAC), representing eight member groups including the Airport Association of North Dakota, North Dakota Business Aviation Association, North Dakota Pilots Association, North Dakota Professional Aviation Mechanics Association, and North Dakota Flying Farmers, to extend the comment period to the proposal.

DATES: The comment period for the NPRM published on November 28, 2011 (76 FR 72869), scheduled to close on January 12, 2012, is extended until February 12, 2012.

ADDRESSES: You may send comments identified by Docket Number FAA-2011-0017 and Airspace Docket No. 09-AGL-31 using any of the following methods:

• Federal eRulemaking Portal: Go to http://www.regulations.gov and follow the instructions for sending your comments electronically.

• Mail: Send comments to U.S. Department of Transportation, Docket Operations, M-30, West Building Ground Floor, Room W12-140, 1200 New Jersey Avenue SE., Washington, DC 20590.

• Fax: Fax comments to Docket Operations at (202) 493-2251.

• Hand Delivery: Bring comments to U.S. Department of Transportation, Docket Operations, M-30, West Building Ground Floor, Room W12-140, 1200 New Jersey Avenue SE., Washington, DC 20590, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time or to Docket Operations in Room W12-140 of the West Building Ground Floor at 1200 New Jersey Avenue SE., Washington, DC, between 9 a.m. and 5 p.m., Monday through Friday, except Federal holidays.

FOR FURTHER INFORMATION CONTACT: Colby Abbott, Airspace, Regulations and ATC Procedures Group, Office of Airspace Services, Federal Aviation Administration, 800 Independence Avenue SW., Washington, DC 20591, telephone (202) 267-8783.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, please send only one copy of written comments, or if you are filing comments electronically, please submit your comments only one time.

We will file in the docket all comments we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Background

On November 28, 2011, the Federal Aviation Administration (FAA) issued Docket No. FAA-2011-0117; Airspace Docket No. 09-AGL-31, Proposed Establishment of Restricted Areas R-5402, R-5403A, R-5403B, R-5403C, R-5403D, R-5403E, R-5403F; Devils Lake, ND (76 FR 72869; November 28, 2011). Comments to that document were to be received on or before January 12, 2012.

By request submitted to the docket on January 2, 2012, the NDAC, representing eight member groups including the Airport Association of North Dakota, North Dakota Business Aviation Association, North Dakota Pilots Association, North Dakota Professional Aviation Mechanics Association, and North Dakota Flying Farmers, requested that the FAA extend the comment period for Airspace Docket FAA-2011-0117; Airspace Docket No. 09-AGL-31 from January 12, 2012, to April 30, 2012. The organizations requesting an extension stated that the comment period deadline of January 12, 2011, did not allow adequate time to respond. They noted that the comment period between the November 28, 2011 notice and the January 12, 2012 deadline provided very little opportunity to research the issue, gain comments and adequately consider the issue. The NDAC offered their eight member organization are holding their annual meetings during the Upper Midwest Aviation Symposium, scheduled for March 4-6, 2012, and plan to use the opportunity to discuss the proposal, gain insight into concerns, and receive position guidance from their members related to the proposed action; hence the extension request to April 30, 2012. Additionally, the NDAC commented the Christmas and New Year holiday season fell within the comment period which greatly reduced the ability to communicate and get meaningful coordination completed.

The FAA supports the petitioners' request for an extension of the comment period on Docket No. FAA-2011-0117; Airspace Docket No. 09-AGL-31, for an additional 30 days in lieu of the 120-day extension requested. The FAA believes a 120-day extension of the existing 45-day comment period for the proposed action to be excessive and unreasonable. The FAA must balance the length of the comment period against the need to proceed expeditiously with airspace actions that support realistic training requirements in modern tactics for the military as we manage the safe and efficient use of the National Airspace System. The FAA believes an additional 30 days would be adequate for commenters to collect cost and operational data necessary to provide meaningful comment to Docket No. FAA-2011-0117; Airspace Docket No. 09-AGL-31. The FAA does not anticipate any further extension of the comment period for this rulemaking.

Extension of Comment Period

In accordance with section 11.47(c) of title 14, Code of Federal Regulations, the FAA has reviewed the request submitted by the North Dakota Aviation Council for extension of the comment period to Docket No. FAA-2011-0117; Airspace Docket No. 09-AGL-31. This petitioner has shown a substantive interest in the proposed rule and good cause for the extension. The FAA has determined that extension of the comment period is consistent with the public interest, and that good cause exists for taking this action.

Accordingly, pursuant to the authority delegated to me, the comment period for Docket No. FAA-2011-0117; Airspace Docket No. 09-AGL-31 published in the Federal Register on November 28, 2011 (76 FR 72869), FR Doc. 2011-30495, is extended until February 12, 2012.

Issued in Washington, DC, on January 5, 2012.
Gary A. Norek,
Acting Manager, Airspace, Regulations and ATC Procedures Group.

[FR Doc. 2012-284 Filed 1-10-12; 8:45 am]

BILLING CODE 4910-13-P